OFFICE OF THE UNITED STATES TRADE REPRESENTATIVE

Notice of Meeting of the Industry Trade Advisory Committee on Small and Minority Business (ITAC-11)

AGENCY: Office of the United States Trade Representative.

ACTION: Notice of a Partially Opened Meeting.

SUMMARY: The Industry Trade Advisory Committee on Small and Minority Business (ITAC-11) will hold a meeting on Wednesday, April 4, 2012, from 9 a.m. to 4 p.m. The meeting will be opened to the public from 9 a.m. to 10:30 a.m.

DATES: The meeting is scheduled for April 4, 2012, unless otherwise notified.

ADDRESSES: The meeting will be held at the Herbert C. Humphrey Building, 1401 Constitution Avenue NW., Room 1412, Washington, DC.

FOR FURTHER INFORMATION CONTACT: Laura Hellstern, DFO for ITAC-11 at (202) 482-3222, Department of Commerce, 14th Street and Constitution Avenue NW., Washington, DC 20230.

SUPPLEMENTARY INFORMATION: The Agenda topics to be discussed are:

U.S. Small Business Administration State Trade and Export Promotion (STEP) Grants Process.

Christine L. Turner,
Assistant U.S. Trade Representative, Intergovernmental Affairs and Public Engagement.

[FR Doc. 2012-5791 Filed 3-8-12; 8:45 am]

BILLING CODE 3190-W2-P